DEPARTMENT OF TRANSPORTATION

Federal Highway Administration

Environmental Impact Statement: JR 89/Fanny Bridge Improvements, Tahoe City, Placer County, CA

AGENCY: Federal Highway Administration (FHWA), DOT.

ACTION: Notice of intent.

SUMMARY: The FHWA is issuing this notice to advise the public that an Environmental Impact Statement (EIS) will be prepared for a proposed project in Tahoe City, Placer County, California. The Tahoe Regional Planning Agency (TRPA) has determined that an EIS/EIS/EIR is required to analyze the potential impacts pursuant to the TRPA Code of Ordinances, the California Environmental Quality Act (CEQA), and the National Environmental Policy Act (NEPA) for the proposed transportation project associated with SR 89/Fanny Bridge traffic congestion.

FOR FURTHER INFORMATION CONTACT: Leland W. Dong, Senior Project Development Engineer, Federal Highway Administration, 650 Capitol Mall, Suite 4-100, Sacramento, CA 95814-4708. Telephone: (916) 498-5860, e-mail: leland.dong@fhwa.dot.gov. The local agency contact is Jennifer Hannum, Associate Transportation Planner, Transportation Division, Tahoe Regional Planning Agency, P.O. Box 5310, Stateline, NV 89449. Telephone: (775) 588-4547, ext: 297, e-mail: jhannum@trpa.org.

SUPPLEMENTARY INFORMATION: Currently, there is excessive traffic congestion associated with pedestrian movement on and across Fanny Bridge. In addition, the Fanny Bridge structure is nearing the end of its design life and needs to be replaced or undergo extensive maintenance repairs. The purpose of the SR 89/Fanny Bridge project is to (1) rectify the traffic congestion near the SR 89 Wye, and (2) repair or replace Fanny Bridge. This proposed project includes the following alternatives:

1. No project. Continue maintenance or even heavy maintenance of Fanny Bridge (other than replace piers or replace deck). This may also include near-term modifications to the Wye or pedestrian crossing in the vicinity of the bridge.

2. Widen/replace existing bridge. Includes downstream widening, with a possible inclusion of a roundabout vs. use of a traffic signal at existing Wye. As part of evaluation of potential mitigation measures, provisions for a pedestrian overpass or underpass will be considered.

3. repair existing bridge, provide adjacent pedestrian bridge(s), prohibit pedestrians on existing bridge. Include a new pedestrian bridge immediately upstream from Fanny Bridge, and possibly one immediately downstream as well. A roundabout vs. traffic signal at the existing Wye to also be evaluated.

4. New alignment, close SR 89. Provide new alignment for SR 89 to a new Wye intersection (either configured similar to existing Wye or configured with a roundabout) at a location about ¼ mile south of the existing Wye. Provide bicycle trail underpass of new alignment on north shore of Truckee River. Provide a second roundabout where the relocated SR 89 rejoins the existing highway with third approach serving only recreational parking. Close existing SR 89 to through traffic and evaluate a roundabout vs. signal at existing Wye.

5. New alignment, keep old 89 open. Provide new alignment for SR 89 to a new Wye intersection (either configured similar to existing Wye or configured with a roundabout) at a location about ¼ mile southwest of the existing Wye. Provide bicycle trail underpass of new alignment on north shore of Truckee River. Provide a second roundabout where the relocated SR 89 rejoins the existing highway with a third approach serving only recreational parking. (No change in access to existing recreational parking area from existing SR 89). Roundabout vs. signal at existing Wye to be evaluated. Existing SR 89 used as a local access only.

Public scoping meetings as well as community advisory committee meetings were conducted in August 2003, March 2004, April 2004, and May 2004 in the Tahoe City community. No additional formal scoping is planned, however, there will be continued public involvement as the project is developed. The alternatives being examined in the environmental documentation are the direct outcome of those public meetings. A copy of the Draft EIS/EIS/EIR will be available on the project Web site, http://www.fannybridge.com, when it becomes available.

To ensure that the full range of issues related to this proposed action are addressed and all major issues identified, comments and suggestions are invited from all interested parties. Comments or questions concerning this proposed action and the EIS should be directed to the FHWA address provided above.

(Catalog of Federal Domestic Assistance Program Number 20.205, Highway Research, Planning, and Construction. The regulations implementing Executive Order 12372 regarding intergovernmental consultation on Federal programs and activities apply to this program.)

Issued on: December 13, 2004.
Leland W. Dong,
Senior Project Development Engineer, Federal Highway Administration, Sacramento, California.

[FR Doc. 04-28099 Filed 12-22-04; 8:45 am]

BILLING CODE 4910-22-M